ENVIRONMENTAL PROTECTION AGENCY

[FRL-6840-5]

Agency Information Collection Activities: Submission for OMB Review; Comment Request; New Source Performance Standard (NSPS), for Automobile and Light Duty Truck Surface Coating

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS, Subpart MM, for Automobile and Light Duty Truck Surface Coating. OMB Control Number: 2060-0034, expiration date: 9/30/2000. The ICR describes the nature of the information collection and its expected burden and cost; where appropriate, it includes the actual data collection instrument.

DATES: Comments must be submitted on or before August 24, 2000.

FOR FURTHER INFORMATION CONTACT: For a copy of the ICR contact Sandy Farmer at EPA by phone at (202) 260-2740, by E-Mail at Farmer.Sandy@epamail.epa.gov or download off the Internet at http://www.epa.gov/icr and refer to EPA ICR No. 1064.09. For technical questions about the ICR contact Anthony Raia in the Office of Compliance at 202-564-6045.

SUPPLEMENTARY INFORMATION: Title: NSPS, Subpart MM, for Automobile and Light Duty Truck Surface Coating (OMB Control Number 2060-0034; EPA ICR Number 1064.09; expiring 9/30/2000). This is a request for extension of a currently approved collection.

Abstract: The New Source Performance Standards (NSPS) for automobile and light duty truck surface coating operations were proposed on October 5, 1979 and promulgated on December 24, 1980 (45 FR 85415). These standards apply to the following automobile and light duty truck assembly plant lines: each prime coat operation, guide coat operation, and top coat operation commencing construction, modification or reconstruction after October 5, 1979. Volatile organic compounds (VOC) are the pollutants regulated under the standards.

Owners or operators of the affected facilities described must make the following one time-only reports: notification of the date of construction or reconstruction; notification of the anticipated and actual dates of startup; notification of any physical or operational change to an existing facility which may increase the regulated pollutant emission rate; notification of the date of the initial performance test (not required under section 60.393(a)); and the results of the initial performance test.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on January 21, 2000 (65 FR 3443). Comments were received from industry representatives. The representatives believed the EPA substantially underestimated the number of burden hours associated with this regulation.

Burden Statement: The annual public reporting and recordkeeping burden for this collection of information is estimated to average 228 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Automobile and light duty truck surface coating plants.

Estimated Number of Respondents: 45.

Frequency of Response: Quarterly.

Estimated Total Annual Hour Burden: 39,039.

Estimated Total Annualized Capital O&M Cost Burden: $6,750.

Send comments on the Agency's need for this information, the accuracy of the provided burden estimates, and any suggested methods for minimizing respondent burden, including through the use of automated collection techniques to the following addresses. Please refer to EPA ICR No. 1064.09 and OMB Control No. 2060-0034 in any correspondence.

Ms. Sandy Farmer,

U.S. Environmental Protection Agency,

Office of Environmental Information,

Collection Strategies Division (2822),

1200 Pennsylvania Ave NW,

Washington, DC 20460;

and

Office of Information and Regulatory Affairs,

Office of Management and Budget,

Attention: Desk Officer for EPA,

725 17th Street, NW, Washington, DC 20503.

Dated: July 15, 2000.
Oscar Morales,
Director, Collection Strategies Division.

[FR Doc. 00-18792 Filed 7-24-00; 8:45 am]

BILLING CODE 6560-50-P